DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under the Office of management and Budget's (OMB) review, in compliance with the Paperwork Reduction Act (44 U.S.C. Chapter 35). To request a copy of these documents, call the SAMHSA Reports Clearance Officer on (240) 276-1243.

Project Substance Abuse Prevention and Treatment (SAPT) Block Grant Uniform Application Guidance and Instructions FY 2008-2010 and Regulations (OMB No. 0930-0080)—Revision.

Sections 1921 through 1935 of the Public Health Service Act (U.S.C. 300x-21 to 300x-35) provide for annual allotments to assist States to plan, carry out and evaluate activities to prevent and treat substance abuse and for related activities. Under the provisions of the law, States may receive allotments only after an application is submitted and approved by the Secretary, DHHS. For the Federal fiscal year (FY) 2008-2010 Substance Abuse prevention and Treatment (SAPT) Block Grant application cycles, SAMHSA will provide States with revised application guidance and instructions to implement changes made in accordance with the recommendations of OMB's Program Assessment Rating Tool (PART) analysis. In addition, SAMHSA has incorporated recommendations from the National Association of State Alcohol and Drug Abuse Directors (NASADAD) and their member States in the revisions and clarification of data reporting requirements and instructions.

During the negotiations with the States resulting in agreement on the National Outcome Measures (NOMs) for substance abuse treatment and prevention, SAMHSA pledged to the States to:

1. Reduce respondent burden;

2. work with the States to improve performance management of the SAPT Block Grant;

3. improve the availability, timeliness, and quality of data available to Federal, State, and provider administrators of block grant funded programs.

This revision of the Uniform Application and Regulation for the SAPT Block Grant takes initial steps toward implementing these commitments. Individual States may reduce their respondent burden by selecting the option of using SAMHSA pre-populated tables for Section IVa and b. The data for these tables would be drawn from SAMHSA data sets known as Drug and Alcohol Services Information System (DASIS) Treatment Episode Data Set (TEDS) and National Survey on Drug Use and Health (NSDUH) by SAMHSA and provided to the States. SAMHSA is providing the States with the option of reporting on prevention expenditures utilizing the six prevention strategies or utilizing the Institute of Medicine classification of Universal, Selective or Indicated. SAMHSA has designed the State Prevention Framework State Incentive Grand (SPF SIG) competitive program and funded contracts in States without a SPF SIG to support data driven prevention planning by Substance Abuse State Agencies. This application has been modified to encourage the States to use the State level data collected with support from these programs in the planning in section III of this SAPT Block grant application.

The addition of on-going provider performance monitoring (page 90-7) and the narratives describing State Performance Management and Leadership (page 93) begin the process of aligning the application with the performance management criteria embodied in the OMB PART program.

In the coming 12 months, SAMHSA will continue to work with the States to assess the feasibility and usefulness of pre-populating the following sections of the application with data extracted from SAMHSA data sets to further reduce respondent burden:

Form 6 | Entity Inventory | National Survey of Substance Abuse Treatment Services data set
Form 7 a & b | Treatment Utilization Matrix | DASIS/TEDS/SOMMS
Form 8 | Treatment Needs Assessment | NSDUH, State, and sub-State
Forms T109T7 | Treatment Performance Measures | DASIS/SOMMS
Form P109P15 | Prevention Performance Measures | NSDUH

In addition, NSDUH estimates of persons (1)needing, (2) needing and seeking, and (3) needing, seeking and not receiving treatment will be examined for application to the planning requirements of PART requirements.

SAMHSA will also code all application content against PART requirements to insure that all requirements are appropriately addressed by applicants and Federal staff.

In December 2004, SAMHSA and the States agreed on the goal of having all States reporting the NOMs measures as defined at the meeting by the end of a 3-year implementation period starting in FY 2005 and concluding at the end of FY 2007. By January 2006, supportive technical assistance on information technology design and payment for data submitted became available by the State Outcomes Measurement and Management System (SOMMS) program. States who have participated in the SOMMS/NOMs subcontracts may choose to have their data pre-populated which would significantly reduce their reporting burden for this application. During the next 12 months, SAMHSA in partnership with the States and all other SAPT Block Grant stakeholders will develop standards for analyzing and responding to the results of NOMs data appropriate to each level of block grant fund administration including Federal, State, and Provider roles and responsibilities.

SAMHSA and the States also recognized that States would require technical assistance in information technology and software purchasing to implement the new NOMs data set and SAMHSA agreed to realign resources to contract for this specialized technical assistance. This technical assistance first became available in September 2006 and the first project was just completed.

Thirty-eight States are currently reporting all or some of the NOM measures and 46 States have State or SAMHSA support contracts in place to develop and operationalize the necessary data infrastructure to report all NOMs.

So long as States are progressing toward achieving this goal by currently reporting some or all NOM data and are partnering with SAMHSA to install the necessary infrastructure to report all NOMs, because of the delay securing the necessary information technology technical assistance or the extent to which hardware and software had to be purchased, SAMHSA will continue to accept data submitted as part of the uniform application as meeting the NOMs reporting requirement of the 2008 Presidents Budget.

Revisions to the previously-approved application resulting from such stakeholder input reflect the following changes: (1) In Section I, Form 2, “Table of Contents,” was revised to appropriately enumerate the specific items within each section; (2) In Section II, the Narrative description of certain maintenance of effort and expenditure base calculations was simplified to require submission of such information only if it represented a revision from previous years' submissions. This section was also moved to its more appropriate place in the application immediately preceding reporting on maintenance of efforts; (3) In Section II, Form 4, “Substance Abuse State Agency Spending Report,” was amended to use consistent language for services expenditure reporting and planning across Forms 4, 6, and 11. On Form 4 and Form 11, Row 1, the activity to be reported on is entitled: SAPT Block Grant funds for Substance Abuse Prevention (other than primary prevention) and Treatment Services to be consistent with the terminology used in Form 6, Column 5; (4) In Section II, Form 6, “Entity Inventory,” instructions were clarified to communicate that information on all substance abuse prevention and treatment service providers funded through the SSA was sought; (5) In Section II, Form 7A, “Treatment Utilization Matrix,” instructions were clarified to communicate that information on persons admitted and served within the specific reporting period was sought to enable the SAPT Block Grant Program to address the recommendations of the FY 2003 OMB PART analysis; (6) In Section II, Form 7B, “Number Of Persons SErved (Unduplicated Count) For Alcohol And Other Drug Use In State Funded Services,” instructions were clarified in a similar manner as Form 7A and a separate data cell was added to accommodate States' desires to report on clients admitted in a prior reporting period but also continuing to be served within the current reporting period; (7) In Section II, Table I (Maintenance), “Single State Agency (SSA) Expenditures for Substance Abuse” was amended to reflect the appropriate State fiscal year and the corresponding instructions were amended; (8) In Section II, Table II (Maintenance), “Statewide Non-Federal Expenditures or Tuberculosis Services to Substance Abusers in Treatment,” was amended to reflect the appropriate State fiscal year and the corresponding instructions were amended; (9) In Section II, Table III (Maintenance), “Statewide Non-Federal Expenditures for HIV Early Intervention Services to Substance Abusers in Treatment,” was amended to allow States to enter the appropriate State fiscal year and the corresponding instructions were amended; (10) In Section II, Table IV (Maintenance), “SSA Expenditures for Women's Services,” was amended to reflect the appropriate fiscal year and the corresponding instructions were amended; (11) In Section III, Form 11, “Intended Use Plan,” was amended to use consistent language for services expenditure reporting and planning; (12) In Section IV, subparts IV-A and IV-B, “Voluntary Treatment Performance Measures” and “Voluntary Prevention Performance Measures” all references to the term Voluntary are deleted as reporting on these measures will no longer be voluntary; (13) In Section IV-A, “Treatment Performance Measures,” the general instructions were amended to implement mandatory reporting on performance measure Forms T1-T7 and a narrative requirement is proposed to collection information on States internal practices to use performance measure data to manage their systems; (14) In Section IV-A, “Treatment Performance Measures” Forms T1-T7 data specifications replaced State detail sheet narrative requirements for Forms T1-T7 to reduce the burden of reporting and improve the uniformity of data quality information being collected; (15) The Section IV-A, “Treatment Performance Measures” T6 on infectious disease control efforts was deleted because it was determined to be duplicative of information requirements in Section II of the application; (16) In Section IV, subpart IV-B, “Prevention Performance Measures” Forms P5 and P6 were removed, P1-P15 were substituted for the previous Forms P1-P4 and the instructions were amended to address pre-population of prevention performance data.

The total annual reporting burden estimate is shown below:

| Number of respondents | Responses per respondent | Number hours per response | Total hours
Sections I-III—States and Territories | 60 | 1 | 470 | 28,200
Section IV-A | 60 | 1 | 40 | 2,400
Section IV-B | 60 | 1 | 42.75 | 2,565
Recordkeeping | 60 | 1 | 16 | 960
Total | 60 |  |  | 34,125

Written comments and recommendations concerning the proposed information collection should be sent by August 1, 2007 to: SAMHSA Desk Officer, Human Resources and Housing Branch, Office of Management and Budget, New Executive Office Building, Room 10235, Washington, DC 20503; due to potential delays in OBM's receipt and processing of mail sent through the U.S. Postal Service, respondents are encouraged to submit comments by fax to 202-395-6974.

Dated: June 25, 2007.
Elaine Parry,
Acting Director, Office of Program Services.

[FR Doc. 07-3207 Filed 6-29-07; 8:45 am]

BILLING CODE 4162-20-M